NUCLEAR REGULATORY COMMISSION

[Docket Nos. 50-336 and 50-423]

Dominion Nuclear Connecticut, Inc. (Dominion), Millstone Power Station, Units 2 And 3; Notice of Availability of the Final Supplement 22 to the Generic Environmental Impact Statement for License Renewal of Nuclear Plants, Regarding Millstone Power Station, Units 2 And 3

Notice is hereby given that the U.S. Nuclear Regulatory Commission (Commission) has published a final plant-specific supplement to the Generic Environmental Impact Statement for License Renewal of Nuclear Plants (GEIS), NUREG-1437, regarding the renewal of operating licenses DPR-65 and NPF-49 for an additional 20 years of operation at Millstone Power Station, Units 2 and 3 (Millstone), respectively. Millstone is located in Waterford, Connecticut, on Millstone Point between the Niantic and Thames Rivers, approximately 40 miles to the southeast of Hartford, Connecticut. Possible alternatives to the proposed action (license renewal) include no action and reasonable alternative energy sources. Section 9.3 of the final Supplement 22 states:

Based on: (1) The analysis and findings in the GEIS (NRC 1996; 1999), (2) the ER [environmental report] submitted by Dominion (Dominion 2004b), (3) consultation with Federal, State, and local agencies, (4) the staff's own independent review, and (5) the staff's consideration of public comments, the recommendation of the staff is that the Commission determine that the adverse environmental impacts of license renewal for Millstone, are not so great that preserving the option of license renewal for energy planning decision makers would be unreasonable.

The final Supplement 22 to the GEIS is publicly available at the NRC's Agencywide Documents Access and Management System (ADAMS). ADAMS is accessible at http://www.nrc.gov/reading-rm/adams.html; a link is provided to access documents through the Web-based component of ADAMS. The accession number for the final Supplement 22 to the GEIS is ML051960293. Persons who do not have access to ADAMS, or who encounter problems in accessing the documents located in ADAMS, should contact the NRC's PDR Reference staff at 1-800-397-4209, or 301-415-4737, or by e-mail at pdr@nrc.gov. In addition, the Waterford Public Library, 49 Rope Ferry Road, Waterford, Connecticut, and the Three Rivers Community College, Thames River Campus Library, 574 New London Turnpike, Norwich, Connecticut, have agreed to make the final Supplement 22 to the GEIS available for public inspection.

For Further Information, Contact: Mr. Richard L. Emch, Jr., License Renewal and Environmental Impacts Program, Division of Regulatory Improvement Programs, U.S. Nuclear Regulatory Commission, Washington, DC 20555. Mr. Emch may be contacted at 1-800-368-5642, extension 1590 or via e-mail at RLE@nrc.gov.

Dated at Rockville, Maryland, this 18th day of July, 2005.
For the Nuclear Regulatory Commission.
Pao-Tsin Kuo,
Program Director, License Renewal and Environmental Impacts Program, Division of Regulatory Improvement Programs, Office of Nuclear Reactor Regulation.

[FR Doc. E5-3919 Filed 7-21-05; 8:45 am]

BILLING CODE 7590-01-P